DEPARTMENT OF EDUCATION

Information Quality Guidelines

AGENCY: Office of the Chief Information Officer, Department of Education.

ACTION: Notice of reopening and extension of public comment period.

SUMMARY: This document extends the comment period for the Department of Education's draft Information Quality Guidelines. On May 1, 2002, the Department of Education published in the Federal Register (67 FR 21641) a notice of availability of these guidelines for public comment by May 31, 2002. We are now reopening the comment period and extending the deadline to June 17, 2002, in order to give the public more time to comment on the draft guidelines.

DATES: We must receive your comments on or before June 17, 2002.

ADDRESSES: Address all comments about the guidelines to Office of the Chief Information Officer, U.S. Department of Education, 7th and D Streets, SW., room 4082, Washington, DC 20202-4580. If you prefer to send your comments through the Internet, use the following address: ocio.section515@ed.gov. You must include the term “Section 515 Information Quality Guidelines” in the subject line of your electronic message. You may also fax your comments to us at (202) 708-9346.

FOR FURTHER INFORMATION CONTACT: For a Copy of the Guidelines and Further Information: The guidelines are available through the Internet at the following site: www.ed.gov/offices/ocio/section515/index.html Alternatively, you may contact Veena Bhatia, U.S. Department of Education, 7th and D Streets, SW., room 4036-16, Washington, DC 20202-4651. Telephone: (202)708-9279.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Dated: June 5, 2002.
Craig B. Luigart,
Chief Information Officer.

[FR Doc. 02-14589 Filed 6-10-02; 8:45 am]

BILLING CODE 4000-01-P